DEPARTMENT OF STATE

[Public Notice 3478]

Office of Visa Services; 60-Day Notice of Proposed Information Collection: J Visa Waiver Review Application Data Sheet

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal submitted to OMB:

Type of Request: New collection of information Originating Office: CA/VO.

Title of Information Collection: J Visa Waiver Review Application Data Sheet.

Frequency: Once per application.

Form Number: None assigned.

Respondents: Foreign Applicants.

Estimated Number of Respondents per year: 10,000.

Average Hours Per Response: 2 hours.

Total Estimated Burden: 20,000 hours.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Eric Cohan, 2401 E St NW, Rm L-703, U.S. Department of State, Washington, DC 20520, Tel: 202-663-1164.

Dated: September 14, 2000.
George Lannon,
Deputy Assistant Secretary for Visa Services, Bureau of Consular Affairs, Department of State.

[FR Doc. 00-29628 Filed 11-17-00; 8:45 am]

BILLING CODE 4710-06-P